DEPARTMENT OF ENERGY

Federal Energy Regulatory Commission

Combined Notice of Filings #1

Take notice that the Commission received the following electric corporate filings:

Docket Numbers: EC25-70-000.

Applicants: Q-Generation Holdings, LLC.

Description: Application for Authorization Under Section 203 of the Federal Power Act of Q-Generation Holdings, LLC.

Filed Date: 3/27/25.

Accession Number: 20250327-5224.

Comment Date: 5 p.m. ET 4/17/25.

Take notice that the Commission received the following exempt wholesale generator filings:

Docket Numbers: EG25-249-000.

Applicants: Delta Bobcat Solar, LLC.

Description: Delta Bobcat Solar, LLC submits Notice of Self-Certification of Exempt Wholesale Generator Status.

Filed Date: 3/27/25.

Accession Number: 20250327-5207.

Comment Date: 5 p.m. ET 4/17/25.

Docket Numbers: EG25-250-000.

Applicants: Excelsior Energy Center, LLC.

Description: Excelsior Energy Center, LLC submits Notice of Self-Certification of Exempt Wholesale Generator Status.

Filed Date: 3/27/25.

Accession Number: 20250327-5209.

Comment Date: 5 p.m. ET 4/17/25.

Docket Numbers: EG25-251-000.

Applicants: Mondu Solar, LLC.

Description: Mondu Solar, LLC submits Notice of Self-Certification of Exempt Wholesale Generator Status.

Filed Date: 3/27/25.

Accession Number: 20250327-5222.

Comment Date: 5 p.m. ET 4/17/25.

Take notice that the Commission received the following electric rate filings:

Docket Numbers: ER10-1631-020; ER10-1892-023; ER10-2678-021; ER10-2729-015; ER22-1241-002; ER20-660-010; ER20-1440-006; ER21-202-002; ER21-1133-003; ER22-425-003; ER11-3321-013; ER14-19-019; ER14-1219-015; ER16-2405-014; ER16-2406-015; ER17-990-013; ER17-992-013; ER17-993-013; ER10-2744-021; ER11-3320-020; ER13-2316-018; ER14-2548-011; ER16-1652-023; ER17-989-013; ER17-1946-013; ER17-1947-007; ER17-1948-007; ER16-1732-014; ER18-95-010; ER10-1618-018; ER10-1854-020; ER10-2739-036.

Applicants: LS Power Marketing, LLC, Doswell Limited Partnership, Rolling Hills Generating, L.L.C., Buchanan Energy Services Company, LLC, Aurora Generation, LLC, Helix Ravenswood, LLC, Helix Maine Wind Development, LLC, Helix Ironwood, LLC, Chambersburg Energy, LLC, LifeEnergy LLC, Ocean State Power, Seneca Generation, LLC, LSP University Park, LLC, Riverside Generating Company, L.L.C., Bath County Energy, LLC, Springdale Energy, LLC, Gans Energy, LLC, Rockford Power, LLC, Rockford Power II, LLC, Armstrong Power, LLC, West Deptford Energy, LLC, Wallingford Energy LLC, Enerwise Global Technologies, LLC, Hummel Station, LLC, Centrica Business Solutions Optimize, LLC, Yards Creek Energy, LLC, Bolt Energy Marketing, LLC, REV Energy Marketing, LLC, Buchanan Generation, LLC, Troy Energy, LLC, Columbia Energy LLC, University Park Energy, LLC.

Description: Response to 01/23/2025, Updated Market Power Analysis for Northeast Region of LS Power Marketing, LLC, et al.

Filed Date: 3/26/25.

Accession Number: 20250326-5268.

Comment Date: 5 p.m. ET 4/16/25.

Docket Numbers: ER20-1985-001; ER20-1988-002; ER20-2179-002; ER20-2622-003.

Applicants: Wilmot Energy Center, LLC, Baldwin Wind Energy, LLC, Northern Colorado Wind Energy Center II, LLC, Northern Colorado Wind Energy Center, LLC.

Description: Supplement to January 11, 2021 Notice of Non-Material Change in Status of Northern Colorado Wind Energy Center, LLC, et al.

Filed Date: 3/12/21.

Accession Number: 20210312-5358.

Comment Date: 5 p.m. ET 4/17/25.

Docket Numbers: ER25-765-000.

Applicants: Beowawe Power, LLC.

Description: Second Amendment to 12/19/2024, Beowawe Power, LLC tariff filing.

Filed Date: 3/26/25.

Accession Number: 20250326-5141.

Comment Date: 5 p.m. ET 4/9/25.

Docket Numbers: ER25-1777-000.

Applicants: Duke Energy Florida, LLC, Duke Energy Carolinas, LLC.

Description: § 205(d) Rate Filing: Duke Energy Carolinas, LLC submits tariff filing per 35.13(a)(2)(iii: DEF Revisions to Joint OATT Formula Transmission Rates—Storm Reserve to be effective 6/1/2025.

Filed Date: 3/26/25.

Accession Number: 20250326-5244.

Comment Date: 5 p.m. ET 4/16/25.

Docket Numbers: ER25-1778-000.

Applicants: Puget Sound Energy, Inc.

Description: Compliance filing: Order 904 Compliance Filing to be effective 5/15/2025.

Filed Date: 3/26/25.

Accession Number: 20250326-5258.

Comment Date: 5 p.m. ET 4/16/25.

Docket Numbers: ER25-1779-000.

Applicants: Louisville Gas and Electric Company.

Description: § 205(d) Rate Filing: LGE Brown BESS Provisional Large Generator Interconnection Agreement to be effective 2/26/2025.

Filed Date: 3/27/25.

Accession Number: 20250327-5051.

Comment Date: 5 p.m. ET 4/17/25

Docket Numbers: ER25-1780-000.

Applicants: Louisville Gas and Electric Company.

Description: Tariff Amendment: Notice of Termination of Rate Schedule No. 526 to be effective 5/27/2025.

Filed Date: 3/27/25.

Accession Number: 20250327-5061.

Comment Date: 5 p.m. ET 4/17/25.

Docket Numbers: ER25-1781-000.

Applicants: Kentucky Utilities Company.

Description: Tariff Amendment: Notice of Termination KU Concurrence to Rate Schedule 526 to be effective 5/27/2025.

Filed Date: 3/27/25.

Accession Number: 20250327-5064.

Comment Date: 5 p.m. ET 4/17/25.

Docket Numbers: ER25-1782-000.

Applicants: Idaho Power Company.

Description: Compliance filing: Order No. 904 Compliance Filing to be effective 6/1/2025.

Filed Date: 3/27/25.

Accession Number: 20250327-5065.

Comment Date: 5 p.m. ET 4/17/25.

Docket Numbers: ER25-1783-000.

Applicants: Midcontinent Independent System Operator, Inc.

Description: § 205(d) Rate Filing: 2025-03-27_SA 3749 Termination of ATC-Uplands Wind E&P (J1773 J1781) to be effective 3/28/2025.

Filed Date: 3/27/25.

Accession Number: 20250327-5070.

Comment Date: 5 p.m. ET 4/17/25.

Docket Numbers: ER25-1784-000.

Applicants: PacifiCorp.

Description: Tariff Amendment: Notice of Termination (R.S. No. 712) to be effective 6/26/2025.

Filed Date: 3/27/25.

Accession Number: 20250327-5172.

Comment Date: 5 p.m. ET 4/17/25.

Docket Numbers: ER25-1785-000.

Applicants: Public Service Company of Colorado.

Description: § 205(d) Rate Filing: 2024-03-27—PSC—UPI—T-2024-16—Cowboy—SISA—858—0.0.0 to be effective 5/26/2025.

Filed Date: 3/27/25.

Accession Number: 20250327-5180.

Comment Date: 5 p.m. ET 4/17/25.

Docket Numbers: ER25-1786-000.

Applicants: Public Service Company of Colorado.

Description: § 205(d) Rate Filing: 2024-03-27—PSC—UPI—T-2024-9—Bonnet—SISA—854—NOC to be effective 3/28/2025.

Filed Date: 3/27/25.

Accession Number: 20250327-5185.

Comment Date: 5 p.m. ET 4/17/25.

Docket Numbers: ER25-1787-000.

Applicants: Public Service Company of Colorado.

Description: § 205(d) Rate Filing: 2024-03-27—PSC—UPI—T-2024-10—Bowler—SISA—855—NOC to be effective 3/28/2025.

Filed Date: 3/27/25.

Accession Number: 20250327-5188.

Comment Date: 5 p.m. ET 4/17/25.

Docket Numbers: ER25-1789-000.

Applicants: Tri-State Generation and Transmission Association, Inc.

Description: Tariff Amendment: Notice of Cancellation of Service Agreement FERC Nos. 102, 106, 206, and 207 to be effective 2/28/2025.

Filed Date: 3/27/25.

Accession Number: 20250327-5211.

Comment Date: 5 p.m. ET 4/17/25.

Docket Numbers: ER25-1790-000.

Applicants: Tri-State Generation and Transmission Association, Inc.

Description: § 205(d) Rate Filing: Initial Filing of Rate Schedule No. 405 to be effective 5/27/2025.

Filed Date: 3/27/25.

Accession Number: 20250327-5219.

Comment Date: 5 p.m. ET 4/17/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes.

For public inquiries and assistance with making filings such as interventions, comments, or requests for rehearing, the public is encouraged to contact OPP at (202) 502-6595 or OPP@ferc.gov.

Dated: March 27, 2025.
Carlos D. Clay,
Deputy Secretary.

[FR Doc. 2025-05615 Filed 4-1-25; 8:45 am]

BILLING CODE 6717-01-P